DEPARTMENT OF TRANSPORTATION

Federal Aviation Administration

14 CFR Part 39

[Docket No. FAA-2011-0723; Directorate Identifier 2010-NM-080-AD]

RIN 2120-AA64

Airworthiness Directives; Lockheed Martin Corporation/Lockheed Martin Aeronautics Company Model L-1011 Series Airplanes

AGENCY: Federal Aviation Administration (FAA), DOT.

ACTION: Notice of proposed rulemaking (NPRM).

SUMMARY: We propose to supersede an existing airworthiness directive (AD) that applies to Model L-1011-385-1, L-1011-385-1-14, and L-1011-385-1-15 airplanes. The existing AD currently requires implementation of a Supplemental Inspection Document (SID) program of structural inspections to detect fatigue cracking, and repair, if necessary, to ensure continued airworthiness of these airplanes as they approach the manufacturer's original fatigue design life goal. Since we issued that AD, an evaluation by the manufacturer of usage and flight data provided additional information about certain Structurally Significant Details (SSDs) where fatigue damage is likely to occur. This proposed AD would add airplanes to the applicability, change certain inspection thresholds, add three new SSDs, and remove an SSD that has been addressed by a different AD. We are proposing this AD to prevent fatigue cracking that could compromise the structural integrity of these airplanes.

DATES: We must receive comments on this proposed AD by September 22, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Lockheed Martin Corporation/Lockheed Martin Aeronautics Company, Airworthiness Office, Dept. 6A0M, Zone 0252, Column P-58, 86 S. Cobb Drive, Marietta, Georgia 30063; phone: 770-494-5444; fax 770-494-5445; e-mail ams.portal@lmco.com; Internet http://www.lockheedmartin.com/ams/tools/TechPubs.html. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, Georgia 30337; phone: 404-474-5554; fax 404-474-5606; e-mail: Carl.W.Gray@faa.gov.

SUPPLEMENTARY INFORMATION:

Comments Invited

We invite you to send any written relevant data, views, or arguments about this proposed AD. Send your comments to an address listed under the ADDRESSES section. Include “Docket No. FAA-2011-0723; Directorate Identifier 2010-NM-080-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 5, 1995, we issued AD 95-20-04 R1, Amendment 39-9454 (60 FR 63414, December 11, 1995), for all Lockheed Model L-1011-385-1 series airplanes. That AD requires implementation of a Supplemental Inspection Document (SID) program of structural inspections to detect fatigue cracking, and repair, if necessary, to ensure continued airworthiness of these airplanes as they approach the manufacturer's original fatigue design life goal. That AD resulted from a structural re-evaluation by the manufacturer that identified certain structural details where fatigue damage is likely to occur. We issued that AD to prevent fatigue cracking that could compromise the structural integrity of these airplanes.

Actions Since Existing AD Was Issued

Since we issued AD 95-20-04 R1, an evaluation by the manufacturer of usage and flight data provided additional information about certain SSDs where fatigue damage is likely to occur. Therefore, this proposed AD changes certain inspection thresholds and intervals for Model L-1011-385-1, L-1011-385-1-14, and L-1011-385-1-15 airplanes, adds three new SSDs, and removes an SSD that has been addressed by AD 99-08-20, amendment 39-11128 (64 FR 18324, April 14, 1999). AD 99-08-20 requires repetitive inspections to detect cracking of the bulkhead web and cap at fuselage station 1363, and repair if necessary.

When we issued AD 95-20-04 R1, Model L-1011-385-3 airplanes were not included in the applicability. These long-range airplanes flew less frequently and were neither imminently approaching nor had exceeded the manufacturer's original fatigue design life goal. In the NPRM for AD 95-20-04, Amendment 39-9382 (60 FR 51713, October 3, 1995) we stated that as these airplanes accumulated more hours time-in-service, and as the critical area selection was developed and identified, we anticipated that these airplanes would be addressed in future rulemaking actions. We now have determined that further rulemaking is indeed necessary for these airplanes, and we have added them to the applicability of this proposed AD.

Relevant Service Information

We reviewed Lockheed Document Number LG92ER0060, “L-1011-385 Series Supplemental Inspection Document,” revised April 2009 (hereafter referred to as “the Lockheed Document”). The Lockheed Document describes procedures for supplemental inspections of SSDs for all Model L-1011 series airplanes. The Lockheed Document identifies SSDs in fuselage, stabilizer, and wing-critical areas. The Lockheed Document changes certain inspection thresholds, adds Model L-1011-353-3 airplanes to the effectivity, adds SSDs 57-3-10, 57-3-11, 57-4-1C, and removes SSD 53-4-3. The Lockheed Document also specifies that operators submit the results of these inspections to Lockheed.

FAA's Determination

We are proposing this AD because we evaluated all the relevant information and determined the unsafe condition described previously is likely to exist or develop in other products of the same type design.

Proposed AD Requirements

This proposed AD would retain all requirements of AD 95-20-04 R1. This proposed AD would add Model L-1011-385-3 airplanes to the applicability, change certain inspection thresholds and intervals for Model L-1011-385-1, L-1011-385-1-14, and L-1011-385-1-15 airplanes, add three new SSDs for Model L-1011-385-3 airplanes, and remove an SSD that has been addressed by a different AD action. This proposed AD would also require accomplishing the actions specified in the service information described previously. This proposed AD would also require sending the inspection results to the manufacturer.

Change to Existing AD

This proposed AD would retain all requirements of AD 95-20-04 R1. Since AD 95-20-04 R1 was issued, the AD format has been revised, and certain paragraphs have been rearranged. As a result, the corresponding paragraph identifiers have changed in this proposed AD, as listed in the following table:

Revised Paragraph Identifiers
Requirement in AD 95-20-04 | Corresponding requirement in this proposed AD
paragraph (a) | paragraph (g)
paragraph (b) | paragraph (n)
paragraph (c) | paragraph (o)

Costs of Compliance

We estimate that this proposed AD affects 26 airplanes of U.S. registry.

We estimate the following costs to comply with this proposed AD:

Estimated Costs
Action | Labor cost | Parts cost | Cost per product | Number of airplanes affected | Cost for U.S. operators
Incorporate SID into maintenance program [retained actions from existing AD] | 550 work-hours × $85 per hour = $46,750 | $0 | $46,750 | 26 | $1,215,500.
Initial inspections [retained actions from existing AD] | 245 work-hours × $85 per hour = $20,825 | 0 | $20,825 | 26 | $541,450.
Repetitive inspections [retained actions from existing AD] | 52 work-hours × $85 per hour = $4,420 per inspection cycle | 0 | $4,420 per inspection cycle | 26 | $114,920 per inspection cycle.
Incorporate SID into maintenance program [new proposed action for Model L-1011-385-3 airplanes] | 1 work-hour × $85 = $85 | 0 | $85 | 2 | $170.
Initial inspections [new proposed action for Model L-1011-385-3 airplanes] | 48 work-hours × $85 per hour = $4,080 | 0 | $4,080 | 2 | $8,160.
Repetitive inspections [new proposed action for Model L-1011-385-3 airplanes] | 44 work-hours × $85 per hour = $3,740 per inspection cycle | 0 | $3,740 per inspection cycle | 2 | $7,480 per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 95-20-04 R1, Amendment 39-9454 (60 FR 63414, December 11, 1995), and adding the following new AD:

Lockheed Martin Corporation/Lockheed Martin Aeronautics Company: Docket No. FAA-2011-0723; Directorate Identifier 2010-NM-080-AD.

Comments Due Date

(a) The FAA must receive comments on this AD action by September 22, 2011.

Affected ADs

(b) This AD supersedes AD 95-20-04 R1, Amendment 39-9454.

Applicability

(c) All Lockheed Martin Corporation/Lockheed Martin Aeronautics Company Model L-1011-385-1, L-1011-385-1-14, L-1011-385-1-15, and L-1011-385-3 airplanes, certificated in any category.

Subject

(d) Joint Aircraft System Component (JASC)/Air Transport Association (ATA) of America Code 53, Fuselage.

Unsafe Condition

(e) This AD was prompted by an evaluation by the manufacturer of usage and flight data that provided additional information about certain Structurally Significant Details (SSDs) where fatigue damage is likely to occur. We are issuing this AD to prevent fatigue cracking that could compromise the structural integrity of these airplanes.

Compliance

(f) Comply with this AD within the compliance times specified, unless already done.

Restatement of the Requirements of AD 95-20-04 R1: Revision and Inspections

(g) For Model L-1011-385-1, L-1011-385-1-14, and L-1011-385-1-15 airplanes: Within 12 months after November 2, 1995 (the effective date of AD 95-20-04 R1), incorporate a revision into the maintenance inspection program which provides for inspection(s) of the structurally significant details (SSD) defined in Lockheed Document Number LG92ER0060, “L-1011-385 Series Supplemental Inspection Document,” revised January 1994. Doing the revision required by paragraph (h) of this AD terminates the requirement to revise the maintenance inspections program specified in this paragraph. Doing the inspections required by paragraph (i) of this AD terminates the corresponding inspection requirements of this paragraph.

(1) The initial inspection for each SSD must be performed at the later of the times specified in paragraph (g)(1)(i) or (g)(1)(ii) of this AD.

(i) Within one repeat interval measured from November 2, 1996 (12 months after November 2, 1995).

(ii) Prior to the threshold specified in Lockheed Document Number LG92ER0060, “L-1011-385 Series Supplemental Inspection Document,” revised January 1994, for that SSD.

(2) A 10 percent deviation from the repetitive interval specified in Lockheed Document Number LG92ER0060, “L-1011-385 Series Supplemental Inspection Document,” revised January 1994, for that SSD is acceptable to allow for planning and scheduling time.

(3) If Lockheed Document Number LG92ER0060, “L-1011-385 Series Supplemental Inspection Document,” revised January 1994, specifies that inspection of any SSD be performed at every “C” check, those inspections must be performed at intervals not to exceed 5,000 hours time-in-service or 2,500 flight cycles, whichever occurs earlier.

(4) If Lockheed Document Number LG92ER0060, “L-1011-385 Series Supplemental Inspection Document,” revised January 1994, specifies either the initial inspection or the repetitive inspection intervals for any SSD in terms of flight hours or flight cycles, the inspection shall be performed prior to the earlier of the terms (whichever occurs first on the airplane: either accumulated number of flight hours, or accumulated number of flight cycles).

(5) The non-destructive inspection techniques referenced in Appendix VI of Lockheed Document Number LG92ER0060, “L-1011-385 Series Supplemental Inspection Document,” revised January 1994, provide acceptable methods for accomplishing the inspections required by paragraph (g) of this AD.

New Requirements of this AD: New Revision

(h) For all airplanes: Within 12 months after the effective date of this AD, incorporate a revision into the maintenance inspection program which provides for inspection(s) of the SSDs defined in Lockheed Document Number LG92ER0060, “L-1011-385 Series Supplemental Inspection Document,” revised April 2009. Doing this revision terminates the requirement to revise the maintenance inspection program as specified in paragraph (g) of this AD.

Threshold and Intervals

(i) For all airplanes: Do all applicable inspections specified in Lockheed Document Number LG92ER0060, “L-1011-385 Series Supplemental Inspection Document,” revised April 2009. Do the initial inspection or next repetitive inspection at the applicable time specified in paragraphs (i)(1) and (i)(2) of this AD, except as provided by paragraphs (j), (k), and (l) of this AD. Repeat the inspections thereafter in accordance with the intervals and actions specified in Lockheed Document Number LG92ER0060, “L-1011-385 Series Supplemental Inspection Document,” revised April 2009, except as provided by paragraphs (j), (k), and (l) of this AD. The non-destructive inspection techniques referenced in Lockheed Document Number LG92ER0060, “L-1011-385 Series Supplemental Inspection Document,” revised April 2009, provide acceptable methods for accomplishing the inspections required by this AD. Doing the inspections required by this paragraph of this AD terminates the corresponding inspection requirements of paragraph (g) of this AD.

(1) For Model L-1011-385-3 airplanes; and for Model L-1011-385-1, L-1011-385-1-14, and L-1011-385-1-15 airplanes on which the initial inspection required by paragraph (g) of this AD has not been accomplished before the effective date of this AD: Do the initial inspection at the later of the times specified in paragraphs (i)(1)(i) and (i)(1)(ii) of this AD.

(i) Within one repeat interval measured from a date 12 months after the effective date of this AD.

(ii) Before the threshold specified for that SSD in Lockheed Document Number LG92ER0060, “L-1011-385 Series Supplemental Inspection Document,” revised April 2009.

(2) For Model L-1011-385-1, L-1011-385-1-14, and L-1011-385-1-15 airplanes on which the initial inspection required by paragraph (g) of this AD has been accomplished before the effective date of this AD: Do the next repetitive inspection at the earlier of the times specified in paragraphs (i)(2)(i) and (i)(2)(ii) of this AD.

(i) Within the next repetitive inspection interval specified in Lockheed Document Number LG92ER0060, “L-1011-385 Series Supplemental Inspection Document,” revised January 1994, for that SSD.

(ii) Within one repeat interval measured from a date 12 months after the effective date of this AD; or within the next repetitive interval specified in Lockheed Document Number LG92ER0060, “L-1011-385 Series Supplemental Inspection Document,” revised April 2009, for that SSD; whichever occurs later.

Exceptions to Threshold and Intervals

(j) For all airplanes: A 10 percent deviation from the repetitive interval specified in Lockheed Document Number LG92ER0060, “L-1011-385 Series Supplemental Inspection Document,” revised April 2009, for that SSD is acceptable to allow for planning and scheduling time.

(k) For all airplanes: Where Lockheed Document Number LG92ER0060, “L-1011-385 Series Supplemental Inspection Document,” revised April 2009, specifies that inspection of any SSD be performed at every “C” check, those inspections must be performed at intervals not to exceed 5,000 flight hours or 2,500 flight cycles, whichever occurs earlier.

(l) For all airplanes: Where Lockheed Document Number LG92ER0060, “L-1011-385 Series Supplemental Inspection Document,” revised April 2009, specifies either the initial inspection or the repetitive inspection intervals for any SSD in terms of flight hours or flight cycles, the inspection must be performed prior to the earlier of the terms (whichever occurs first on the airplane: either accumulated number of flight hours, or accumulated number of flight cycles).

Exception to Inspection Procedure

(m) For all airplanes: There should be no repair or modification work done in the inspection area before the initial inspections required by paragraph (i) of this AD; any changes in the inspection area could affect the inspection procedure.

Repair

(n) For all airplanes: If any cracking is found in any SSD during any inspection required by this AD, prior to further flight, repair in accordance with paragraph (n)(1), (n)(2), or (n)(3) of this AD:

(1) In accordance with the applicable service bulletin referenced in Lockheed Document Number LG92ER0060, “L-1011-385 Series Supplemental Inspection Document,” revised January 1994; or revised April 2009. After doing the revision required by paragraph (h) of this AD, repair in accordance with the applicable service bulletin referenced in Lockheed Document Number LG92ER0060, “L-1011-385 Series Supplemental Inspection Document,” revised April 2009.

(2) In accordance with the Structural Repair Manual or in accordance with Lockheed L-1011 Structural Repair Manual, Revision 80, dated December 15, 2009. As of the effective date of this AD, use Lockheed L-1011 Structural Repair Manual, Revision 80, dated December 15, 2009.

(3) In accordance with a method approved by the Manager, Atlanta Aircraft Certification Office (ACO), FAA.

Reporting

(o) For all airplanes: At the later of the times specified in paragraphs (o)(1) and (o)(2) of this AD, submit a report of the results (positive or negative) of the inspection(s) to Lockheed in accordance with Section V., Data Reporting System (DRS), of the applicable Lockheed Document specified in paragraph (o)(1) of this AD. Under the provisions of the Paperwork Reduction Act (44 U.S.C. 3501 et seq.), the Office of Management and Budget (OMB) has approved the information collection requirements contained in this AD and has assigned OMB Control Number 2120-0056.

(1) Within 30 days after returning the airplane to service, subsequent to accomplishment of the inspection(s) specified in Lockheed Document Number LG92ER0060, “L-1011-385 Series Supplemental Inspection Document,” revised January 1994; or Lockheed Document Number LG92ER0060, “L-1011-385 Series Supplemental Inspection Document,” revised April 2009.

(2) Within 30 days after the effective date of this AD.

Paperwork Reduction Act Burden Statement

(p) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(q)(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(r) For more information about this AD, contact Carl Gray, Aerospace Engineer, Airframe Branch, ACE-117A, FAA, Atlanta Aircraft Certification Office (ACO), 1701 Columbia Avenue, College Park, Georgia 30337; phone: 404-474-5554; fax: 404-474-5606; e-mail: Carl.W.Gray@faa.gov.

(s) For service information identified in this AD, contact Lockheed Martin Corporation/Lockheed Martin Aeronautics Company, Airworthiness Office, Dept. 6A0M, Zone 0252, Column P-58, 86 S. Cobb Drive, Marietta, Georgia 30063; phone: 770-494-5444; fax: 770-494-5445; e-mail: ams.portal@lmco.com; Internet http://www.lockheedmartin.com/ams/tools/TechPubs.htm. You may review copies of the referenced service information at the FAA, Transport Airplane Directorate, 1601 Lind Avenue SW., Renton, Washington. For information on the availability of this material at the FAA, call 425-227-1221.

Issued in Renton, Washington, on July 29, 2011.
Ali Bahrami,
Manager, Transport Airplane Directorate, Aircraft Certification Service.

[FR Doc. 2011-19968 Filed 8-5-11; 8:45 am]

BILLING CODE 4910-13-P